DEPARTMENT OF LABOR

Employment and Training Administration

[TA-W-62,210A; TA-W-62,210B]

Dexter Chemical LLC, Textile Chemicals Division, Charlotte, North Carolina; Including an Employee of Dexter Chemical LLC, Textile Chemicals Division, Charlotte, North Carolina, Located in Marietta, Georgia; Amended Certification Regarding Eligibility to Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on November 5, 2007, applicable to workers of Dexter Chemical LLC, Textile Chemicals Division, Charlotte, North Carolina. The notice was published in the Federal Register on November 21, 2007 (72 FR 65607).

At the request of the State agency, the Department reviewed the certification for workers of the subject firm.

New information shows that a worker separation occurred involving an employee of the Charlotte, North Carolina facility of Dexter Chemical LLC, Textile Chemicals Division located in Marietta, Georgia. Mr. Richard H. Bass provided sales function services supporting the production of specialty chemicals for the textile industry that is produced at the subject firm.

Based on these findings, the Department is amending this certification to include an employee of the Charlotte, North Carolina facility of Dexter Chemical LLC, Textile Chemicals Division working out of Marietta, Georgia.

The intent of the Department's certification is to include all workers of Dexter Chemical LLC, Textile Chemicals Division, Charlotte, North Carolina who were adversely affected by increased imports as an upstream supplier of component parts for textiles.

The amended notice applicable to TA-W-62,210A is hereby issued as follows:

“All workers of Dexter Chemical LLC, Textile Chemicals Division, Charlotte, North Carolina (TA-W-62,210A) including an employee of Dexter Chemical LLC, Textile Chemicals Division, Charlotte, North Carolina located in Marietta, Georgia (TA-W-62,210B), who became totally or partially separated from employment on or after September 25, 2006, through November 5, 2009, are eligible to apply for adjustment assistance under Section 223 of the Trade Act of 1974, and are also eligible to apply for alternative trade adjustment assistance under Section 246 of the Trade Act of 1974.”

Signed at Washington, DC this 29th day of January 2008.
Elliott S. Kushner,
Certifying Officer, Division Of Trade Adjustment Assistance.

[FR Doc. E8-2239 Filed 2-6-08; 8:45 am]

BILLING CODE 4510-FN-P